DEPARTMENT OF COMMERCE

Census Bureau

Proposed Information Collection; Comment Request; 2020 Census

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before August 7, 2018.

ADDRESSES: Direct all written comments to Jennifer Jessup, Departmental Paperwork Clearance Officer, Department of Commerce, Room 6616, 14th and Constitution Avenue NW, Washington, DC 20230 (or via the internet at PRAcomments@doc.gov). You may also submit comments, identified by Docket number USBC-2018-0005, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Robin A. Pennington, Rm. 2H465, U.S. Census Bureau, Decennial Census Management Division, Washington, DC 20233 or by email to Robin.A.Pennington@census.gov.

SUPPLEMENTARY INFORMATION:

I. Abstract

Article 1, Section 2 of the United States Constitution mandates that the U.S. House of Representatives be reapportioned every ten years after conducting a national census of all residents. In addition to the reapportionment of the U.S. Congress, Census data are used to draw legislative district boundaries. Census data also are used to determine funding allocations for the distribution of an estimated $675 billion of federal funds each year.

The goal of the 2020 Census is to count everyone once, only once, and in the right place. From the 2020 Census data, the Census Bureau will produce the basic population totals by state for congressional apportionment, as mandated by the U.S. Constitution and Title 13, U.S. Code. Title 13 also provides for the confidentiality of responses. Anyone who handles census data swears an oath for life to keep those data confidential. Under Title 13, it is against the law to disclose confidential information or any information that could identify an individual respondent. The information the Census Bureau collects cannot be used for any reason except to produce statistics, and violations of Title 13 are punishable by fines and up to five years in prison.

This clearance request covers the 50 states, the District of Columbia, the Commonwealth of Puerto Rico, federally affiliated persons overseas, and the Island Areas of American Samoa, the Commonwealth of the Northern Mariana Islands, Guam, and the United States Virgin Islands. The methods of data collection for the Federally Affiliated Count Overseas and the Island Areas Censuses are different from the data collections described throughout this document and will be described separately in sections specific to those operations.

In compliance with Public Law 94-171, the Census Bureau will tabulate for each state the total population counts by race and Hispanic origin. The Census Bureau will tabulate these counts for the total population and for the population of 18 years of age and over. The Census Bureau intends to work with the National Conference of State Legislatures and other stakeholders to solicit feedback as to how the states would prefer to receive tabulations of citizenship data. If stakeholders such as the National Conference of State Legislatures elect to receive tabulations of citizenship data, the Census Bureau will make require a design change to include citizenship as part of the Public Law 94-171 Redistricting Data File. That new design plan would then be published in the Federal Register after the 2020 Census final design is completed in the summer of 2019. For the prototype and for the 2020 Census, the Census Bureau will provide these tabulations for a variety of standard census geographic areas including state, county, place, tract, and tabulation block. If states provide their congressional, legislative, and voting districts through the Redistricting Data Program, the Census Bureau will also provide the tabulations for these areas. The Census Bureau also will tabulate housing unit counts by occupancy status (occupied or vacant) and provide total population counts for group quarters by group quarters type for a select set of geography, including tabulation blocks. Tallies by congressional, legislative, and voting districts will be available for the 50 states; equivalent tallies will be available for the District of Columbia and the Commonwealth of Puerto Rico. Tallies for state, county, and place will be available for the Island Areas.

The Census Bureau plans to conduct the most automated, modern, and dynamic decennial census in history. The 2020 Census includes design changes in four key areas:

(1) New methodologies to conduct the Address Canvassing operation.

(2) Innovative ways of optimizing self-response.

(3) The use of administrative records and third-party data to reduce the Nonresponse Followup (NRFU) operation workload.

(4) The use of technology to reduce the manual effort and improve the productivity of field operations, while decreasing the amount of physical space required to perform the field operations.

To the extent that these innovations influence the collection of data from respondents in the 2020 Census, these innovations will be described below.

(1) Reengineering Address Canvassing

A complete and accurate address list is the cornerstone of a successful census. In order to conduct the decennial census and enumerate in the census all people at a location, the Census Bureau needs the address and physical location of each place where someone is, or could be, living. In other words, all living quarters need to be identified. The Census Bureau maintains an address list and spatial data for the United States and Puerto Rico in its Master Address File (MAF)/Topologically Integrated Geographic Encoding and Referencing (TIGER) System database. This database was created using the address files from the 1990 Census and has been subsequently and regularly updated using:

• Information collected from decennial census operation updates, including address and spatial updates.

• The Delivery Sequence File of addresses from the United States Postal Service (USPS).

• Input from tribal, state, and local governments and third parties, including address and boundary updates.

• Information collected in other Census Bureau programs, such as the American Community Survey.

Type of Enumeration Areas

Prior to the census, it is necessary to delineate all geographic areas included in the 2020 Census into Type of Enumeration Areas (TEAs). These TEAs describe what methodology will be used for census material delivery and household enumeration in order to use the most cost-effective enumeration approach for achieving maximum accuracy and completeness. For the United States and Puerto Rico, TEAs are delineated at the block level based on the address and spatial data in the MAF/TIGER database.

The MAF/TIGER does not contain data for the Island Areas, so a separate TEA is designated for these areas. The TEAs designated for the 2020 Census are:

• TEA 1 = Self-Response.

• TEA 2 = Update Enumerate.

• TEA 3 = Island Areas.

• TEA 4 = Remote Alaska.

• TEA 5 = Military.

• TEA 6 = Update Leave.

The most common enumeration method by percentage of households is self-response (TEA 1), where materials will be delivered to each address through the mail, and enumeration data is expected to be returned or submitted by a respondent. After the initial self-response phase, nonresponding households will be enumerated in the NRFU operation. Puerto Rico is designated as entirely Update Leave. These TEAs, programs, and operations will be described throughout this notice.

Address Canvassing

Address Canvassing is the process of validating and updating addresses in the MAF and spatial data in TIGER before the census in order to create the initial list of addresses to be enumerated in the census. All housing units, group quarters, and transitory locations need to be identified and located correctly on the map as recorded in TIGER. Group quarters are living quarters where people who are typically unrelated have group living arrangements and frequently are receiving some type of service. College/university student housing and nursing/skilled-nursing facilities are examples of group quarters. Transitory locations include recreational vehicle parks, campgrounds, racetracks, circuses, carnivals, marinas, hotels, and motels. People residing at transitory locations during the census are recorded as living in housing units located at transitory locations. Address Canvassing will not occur in Island Areas.

For the 2020 Census, the Census Bureau is using In-Office Address Canvassing for the first time, in addition to In-Field Address Canvassing. This innovation involves the use of electronic sources for much of the validation and updating of MAF/TIGER. Since 2015, the Census Bureau has used analysis of satellite imagery to identify areas of the United States and Puerto Rico where changes in living quarters have occurred. In-Office Address Canvassing is the process of using empirical geographic evidence (e.g., imagery and comparison of the Census Bureau's address list to partner-provided lists) to assess the current address list. This process detects and identifies change using high-quality imagery, administrative data, and third-party sources to review and update the address last.

However, the Census Bureau will still need to conduct In-Field Address Canvassing in order to update the address and spatial data for an estimated 30 percent of housing units in TEA 1. The Census Bureau will make a final determination on which areas will be canvassed using In-Field Address Canvassing by March 2019. Some In-Office Address Canvassing activities will continue improving the address list until March 2020. In-Field Address Canvassing is the only stage of Address Canvassing that involves collecting information from the general public. The associated response burden is detailed later in this notice.

(2) Optimizing Self-Response

The goal of this innovation area is to communicate the importance of the 2020 Census to the entire population of the 50 states, the District of Columbia, and Puerto Rico, in order to generate the largest possible self-response. Self-response reduces the need to conduct in-person follow-up operations to complete the enumeration. To that end, the Census Bureau will motivate people to respond, as well as make it easy for people to respond, from any location at any time.

Internet Self-Response

One major means of making it easier for people to respond is by providing an internet questionnaire and using mailings, questionnaire delivery, advertising, and publicity to tell the public about this option. Internet response represents a substantial innovation for the enterprise. The internet was not a response option in the 2010 Census. The internet response option has been included in multiple tests leading up to the 2020 Census: The 2014 Census Test; all three census tests performed in 2015; the 2016 Census Test; the 2017 Census Test; and the 2018 End-to-End Census Test.

Based on results from these tests, response rates from prior censuses, and data from the American Community Survey and other surveys, the Census Bureau estimates that 45 percent of U.S. households in areas that receive mailouts of materials from the Census Bureau will respond via the internet before the initial NRFU workload is created. At the same time, the Census Bureau recognizes the need for alternate response modes to allow respondents to complete their 2020 Census questionnaire, including paper questionnaires as used in the past. Details about the contact strategy for mailed materials in TEA 1 will be discussed below. The Census Questionnaire Assistance operation, also described below, will provide the third mode of self-response. Overall, the Census Bureau estimates that 60.5 percent of households that receive mailouts or hand delivery of materials from the Census Bureau will self-respond in one of these three modes (i.e., internet, paper, telephone) prior to the beginning of NRFU activities.

(3) Utilizing Administrative Records and Third-Party Data

For the 2020 Census, “administrative records” and “third-party data” are terms used to describe micro data records contained in files collected and maintained by Federal, state, and local government agencies (“administrative records”) and commercial entities (“third-party data”) for administering programs and providing services. For many decades, the Census Bureau has successfully and securely used administrative records and third-party data for statistical purposes. For the 2020 Census, the Census Bureau intends to use administrative records from both internal sources, such as data from prior decennial censuses and the American Community Survey, and from a range of other Federal agencies, including the Internal Revenue Service (IRS), the Social Security Administration, the Centers for Medicare and Medicaid Services, the Department of Housing and Urban Development, the Indian Health Service, the Selective Service, and the U.S. Postal Service. The Census Bureau is also working to acquire state government administrative records from enrollment in Federal block grant programs, such as the U.S. Department of Agriculture's Supplemental Nutrition Assistance Program and the Special Supplemental Nutrition Program for Women, Infants, and Children. Finally, the Census Bureau is also utilizing commercial third-party data from organizations such as CoreLogic and the Veterans Service Group of Illinois.

Throughout the decade, the Census Bureau continuously conducted analyses and assessments to verify that the proposed uses of administrative records and third-party data sources in the 2020 Census were appropriate in each instance. Based on this research, testing, and analyses, the Census Bureau announced its plans in November 2015 to utilize administrative records and third-party data in the 2020 Census. The 2020 Census Operational Plan calls for employing this information for the following purposes:

1. Consistent with previous decennial censuses, the Census Bureau will utilize administrative records from federal and state government agencies and third-party data to refine contact strategies and build and update the residential address list.

2. Also consistent with previous decennial censuses, the Census Bureau will utilize federal and state administrative records to edit or impute invalid, inconsistent, or missing responses.

3. The new use of administrative records for the 2020 Census is to use data exclusively from federal administrative records to improve the accuracy and efficiency of NRFU operations by:

a. Removing vacant housing units and nonresidential addresses from the NRFU workload.

b. enumerating households that do not self-respond and whom we were unable to contact after six mailings and one in-person field visit.

For each of the purposes listed in items 2, 3a and 3b, the Census Bureau uses or plans to use administrative data only when it can confirm empirically across multiple sources that the data are consistent, of high quality, and can be accurately applied to the addresses and households in question. The Census Bureau plans to enumerate households utilizing administrative records only from Federal government agencies, such as the Internal Revenue Service. Each of the nonresponding addresses will be evaluated under a strict set of Census Bureau rules throughout the process to ensure completeness and accuracy.

Based on the research and tests conducted, the Census Bureau estimates that under the current operational plan Federal administrative records will be used to enumerate up to 6.5 million households of the projected total of approximately 60 million addresses that are expected to be the NRFU workload for the 2020 Census. These 6.5 million households represent less than five percent of the approximately 145 million addresses in the Census master address file. Where the Census Bureau does not have confidence in the data, such as when the data are inconsistent or missing in the Federal administrative records, the household will remain in the NRFU workload.

(4) Reengineering Field Operations

The final innovation area, “Reengineering Field Operations,” has a goal of using technology to manage the 2020 Census fieldwork efficiently and effectively, and as a result, reduce the staffing, infrastructure, and brick and mortar footprint for the 2020 Census. These changes to census field operations will not be apparent to respondents to any of the data collection operations.

The 2020 Census Operations

The set of 35 operations that constitute all processes that will occur in the course of the 2020 Census is described in the 2020 Census Operational Plan. In addition to the public-facing data collection operations, there are operations in the categories of support, Information Technology, infrastructure, data publication, and testing and evaluation. The sections below outline data collection operations in the 2020 Census along with some operations that directly support these data collection operations by producing materials for the 2020 Census.

Some data collection operations that are included in the 2020 Census Operational Plan are not described in this notice. These were or will be described in separate notices because of timing, type of work, or other considerations: Local Update of Census Addresses (Federal Register Notices: 81 FR 42686; 81 FR 78109), Redistricting Data Program (Federal Register Notices: 80 FR 40993; 80 FR 62015), Integrated Partnership and Communications (Federal Register Notice: 82 FR 38875), Evaluations and Experiments, and Count Question Resolution. In addition, all Coverage Measurement field operations, which result in an independent estimate of the coverage of the census, will be handled through separate Federal Register Notices.

Final plans for each of these operations could receive minor updates or other changes as a result of lessons learned during the 2018 End-to-End Census Test, further systems testing, or other input received from stakeholders after the date of this posting. Consistent with the Paperwork Reduction Act of 1995 procedures, shortly after the 60-day comment period for this Notice ends, a 30-day Federal Register Notice of a pending information collection will provide the latest information on plans for every data collection operation in the 2020 Census and provide an additional opportunity for the public to comment.

The Content and Forms Design and the Language Services operations for the 2020 Census are essential to data collection because they involve the development and translation of materials used with respondents. These two operations are described below to set the stage for the discussion of the remaining 2020 Census data collection operations.

(A) Content and Forms Design

The Census Bureau submitted the subjects planned for the 2020 Census to Congress on March 28, 2017, and the questions planned for the 2020 Census on March 29, 2018. The proposed questions for the 2020 Census questionnaire include age, citizenship, Hispanic origin, race, relationship, sex, and tenure.

(B) Language Services

Individuals of Limited English Proficiency require language assistance in order to complete their census questionnaires. The Census Bureau has identified the largest Limited English Proficiency populations in the United States using American Community Survey data and has established a program for providing non-English materials for the decennial census. Internet Self-Response and Census Questionnaire Assistance will be available in 12 non-English languages. Paper questionnaires, mailing materials, field data collection instruments, and field data collection materials will be available in English and Spanish. There will be additional support materials in 59 non-English languages.

(C) Address Canvassing

The purpose of address canvassing is (1) to deliver a complete and accurate address list and spatial database for enumeration and tabulation, and (2) to determine the type and address characteristics for each living quarter. Address canvassing consists of two major components: In-Office Address Canvassing and In-Field Address Canvassing. Only the latter component involves collection of information from residents at their living quarters.

For the 2010 Census, the Address Canvassing field staff, referred to as listers, traversed almost every block in the nation to compare what they observed on the ground with the contents of the Census Bureau's address list. Listers verified or corrected addresses that were on the list, added new addresses to the list, and deleted addresses that no longer existed. Listers also collected map spot locations (i.e., Global Positioning System coordinates) for each structure and added new streets.

The Census Bureau has determined that for the 2020 Census there will be a full Address Canvassing that will consist of In-Office Address Canvassing complemented with In-Field Address Canvassing. In-Office Address Canvassing is the process of using empirical geographic evidence (e.g., imagery, comparison of the Census Bureau's address list to partner-provided lists) to assess the current address list and make changes where necessary. This component detects and captures areas of change from high quality administrative records and third-party data. Advancements in technology have enabled continual address and spatial updates to occur throughout the decade as part of the In-Office Address Canvassing effort.

Areas not resolved in the office become the universe of geographic areas worked during In-Field Address Canvassing. In the In-Field Address Canvassing, an extract of addresses from the MAF is created, and this address list is verified and updated, as needed. Listers will knock on doors at every structure in the assignment in an attempt to locate living quarters and classify each living quarter as a housing unit, group quarter, or transitory location. If someone answers, the lister will provide a Confidentiality Notice and ask about the address in order to verify or update the information, as appropriate. The listers will then ask if there are any additional living quarters in the structure or on the property. If there are additional living quarters, the listers will collect/update that information, as appropriate. In addition, there will be a check on the quality of the address listing work on approximately 20 percent of the housing unit workload.

(D) Forms Printing and Distribution

The Forms Printing and Distribution operation involves the printing and distribution of the following paper forms:

• internet invitation letters.

• Reminder cards and letters.

• Questionnaire mailing packages.

• Materials for other special operations, as required.

Every address record will be identified by an ID, which will be printed on questionnaires and letters and used for tracking for responses. Paper questionnaires and responses from field operations will be linked to the ID in data capture. Internet and telephone respondents will be requested but not required to provide the ID. When an ID is not provided, these will be considered Non-ID responses. The Non-ID operation is discussed below.

(E) Internet Self-Response

The internet Self-Response operation performs the following functions:

• Maximize online response to the 2020 Census through contact strategies and improved access for respondents.

• Collect response data through the internet to reduce paper and the NRFU universe.

Contact Strategies for Mailing Materials

“Contact strategies for mailing materials” refers to all attempts by the Census Bureau to make direct contact with individual households by mail. Types of contact strategies include invitation letters, postcards, and questionnaires mailed to households.

A primary objective of the 2020 Census is for a majority of self-respondents to complete their census questionnaire online. To that end, the Census Bureau will use an approach called “Internet First,” in which the first mailing includes an invitation to respond to the census online.

In areas with low internet coverage or connectivity or other characteristics that may make it less likely that respondents will complete the census questionnaire online, the Census Bureau will employ an “internet Choice” contact strategy. In this approach, the first mailing includes both an invitation to complete the census online and a paper questionnaire. The Census Bureau anticipates about 20 percent of the households in TEA 1 will receive the internet Choice treatment. While all nonresponding households in the internet First areas will eventually receive a paper questionnaire—in the fourth mailing—households in internet Choice areas will receive a paper questionnaire in the first mailing, and again in the fourth mailing if they have not yet responded. Both mailing strategies have the objective of maximizing self-response to the 2020 Census, thereby minimizing NRFU.

The contact strategies for mailing materials in TEA 1 are outlined in table form:

Mailing materials treatment | Mailing 1 | Mailing 2 | Mailing 3 * | Mailing 4 * | Mailing 5 *
Internet First | Letter with internet invitation | Reminder letter | Reminder postcard | Questionnaire with letter with internet option | “It's Not Too Late” postcard.
Internet Choice | Questionnaire with letter with internet option | Reminder letter | Reminder postcard | Questionnaire with letter with internet option | “It's Not Too Late” postcard.
* Targeted only to nonrespondents.

Internet Self-Response Instrument

The internet self-response instrument and all related support systems will be designed to handle the volume of responses that are expected to be received by internet in the 2020 Census. It is imperative that the application and systems service the scale of the operation in order to ensure that users do not experience delays while completing the survey or unavailability of the application. In addition, the internet application and other associated systems will be developed to adhere to the highest standards of data security in order to ensure that all respondent data are secure and confidential.

(F) Census Questionnaire Assistance

The Census Questionnaire Assistance operation has three primary functions:

• Answer respondent questions about specific items on the census questionnaire or other frequently asked questions about the census.

• Provide an option for respondents to complete a census interview over the telephone.

• Provide outbound calling in support of NRFU Reinterview and Coverage Improvement (discussed in the NRFU section below).

Respondents using the internet instrument will have the ability to contact Census Questionnaire Assistance by telephone when web-based self-service help tools cannot answer their questions. Each of the 13 supported languages, including English, will have its own toll-free number for callers. Respondents calling the English and Spanish language lines are presented with a self-service Interactive Voice Response system, offering an assortment of automated responses to Frequently Asked Questions information. At any time, respondents may opt to transfer to a customer service representative, who is prepared to further assist and enumerate them. All callers who need assistance in other languages will be connected directly to an appropriately-skilled Customer Service Representative fluent in the language, based on the toll-free number called.

(G) Update Leave

The Update Leave operation is designed to occur in areas where the majority of housing units either do not have mail delivered to the physical location of the housing unit or the mail delivery information for the housing unit cannot be verified. Update Leave can occur in geographic areas that:

• Do not have city-style addresses.

• Do not receive mail through city-style addresses.

• Receive mail at post office boxes.

• Have been affected by major disasters.

These areas will not be included in the In-Field Address Canvassing but will be worked within the In-Office Address Canvassing. The purpose of the Update Leave operation is to update the address and feature data for the area assigned and to leave an internet Choice questionnaire package at every housing unit identified to allow the household to self-respond. Enumerators do not attempt to enumerate the household in person when they leave the questionnaire.

Occupants can respond online, using the ID printed on the questionnaire, or they can fill out and mail back the paper questionnaire. If they have questions or wish to respond on the telephone, they can call Census Questionnaire Assistance, using the contact information provided in the package.

The Update Leave operation includes mailing a reminder letter and a reminder postcard to addresses that are capable of receiving mail within the areas designated for Update Leave. These mailed materials include the ID for the given address and the website address for the household to use in order to respond online. As in TEA 1, any households that do not self-respond will be contacted during the NRFU operation.

Finally, the Update Leave operation performs a check on the quality of the address listing work (quality control [QC]) on approximately 5 percent of the production workload.

(H) Update Enumerate

The Update Enumerate operation is designated to occur in areas where the initial visit requires enumerating at the living quarters while updating the address list. The majority of the operation will occur in remote geographic areas that have unique challenges associated with accessibility. Update Enumerate can occur in the following geographic areas:

• Remote Alaska.

• Areas that were a part of the 2010 Census Remote Update Enumerate operation, such as northern parts of Maine and southeast Alaska.

• Select American Indian areas that request to be enumerated in person during the initial visit.

Note that the areas included in the 2010 Census Remote Update Enumerate operation might be delineated into TEA 1 or TEA 6 for the 2020 Census, based on changes in address type or mailability.

In the Update Enumerate operation, field staff update the address and feature data and enumerate respondents in person. The address and feature data are updated on paper address registers and paper maps. The enumeration is collected on paper questionnaires. Field staff conducting Update Enumerate follow a specific contact strategy for the remote locations and conduct any needed follow-up. The Update Enumerate operation performs a check on the quality of the address work (listing QC) on approximately 10 percent of the listing workload and a check on the quality of the enumeration data through a telephone reinterview on approximately 5 percent of the enumeration workload.

All completed questionnaires, address registers, and maps are delivered or shipped back to the area census office and then sent to a processing center for data capture, keying, and digitizing.

(I) Paper Data Capture

The Paper Data Capture operation captures and converts data from 2020 Census paper questionnaires. Core workloads for the Paper Data Capture operation include self-response questionnaires mailed back by respondents and Group Quarters Individual Census Reports. The Census Bureau's in-house Integrated Computer Assisted Data Entry system is used to capture paper responses from questionnaires. Each write-in and checkbox data field is data-captured, and Optical Character Recognition and Optical Mark Recognition are performed. If Key From Image is needed for forms that cannot be processed through Optical Character Recognition or Optical Mark Recognition, staff are presented the image of the page and are able to clarify, correct, or add to what was captured. The Census Bureau maintains the data, images of the forms, and the paper forms themselves until confirmation that the data have been correctly captured, at which point the paper forms are sent to destruction while the data and images are retained. The Census Bureau maintains the images for archiving purposes until such time as the National Archiving and Records Administration takes possession of the images for permanent archiving.

(J) Non-ID Processing

For the 2020 Census, respondents will be encouraged, but not required, to use the Census Bureau's preassigned ID for the living quarters. Within the internet instrument, and, consequently, within Census Questionnaire Assistance, it will be possible for respondents to submit the census response without the preassigned ID. Non-ID Processing is the effort to associate census responses that lack a Census ID with records included on the Census Bureau's 2020 Census address frame. This processing can occur through automated or clerical procedures. With the internet Self-Response instrument collecting the response and address data, it will be possible to perform automated processing to determine whether the address was already included on the address frame and extracted from the MAF. For those Non-ID responses not matched during automated processing, a clerical operation will make a further attempt to match the address to the 2020 Census address frame and validate nonmatching addresses. Some of the clerical work may require contacting the respondent to help determine a match or to verify the existence and location of the address; this is known as Non-ID Processing Phone Followup. Any nonmatching address whose existence and location cannot be verified by the clerical Non-ID operation will become a Field Verification assignment, handled as a component of the NRFU operation. Notably, Field Verification is only an address verification effort and does not include collection of the census questionnaire data.

(K) Nonresponse Followup

The 2020 Census NRFU operation will be different from the NRFU operation conducted in the 2010 Census. The Census Bureau will implement a NRFU operational design that utilizes a combination of the following:

• Administrative records and third-party data usage to reduce the workload.

• Reengineering of staffing and management of field operations.

• A Best-Time-to-Contact model to increase the likelihood of making contact attempts when an enumerator will find people at home.

• Automation to facilitate data collection.

The NRFU workload is comprised of addresses from a number of sources, including:

• Nonresponding addresses in the self-response and Update Leave TEAs.

• Blank mail returns or mail returns otherwise deemed to be too incomplete.

• Addresses considered to represent recently completed housing identified from the spring 2020 USPS Delivery Sequence File and other special efforts undertaken to identify new housing around the time of the census known as New Construction and Housing Unit Count Review; addresses upheld in the Local Update of Census Addresses appeals process; potentially other addresses determined to require follow-up after the initial enumeration universe is established.

• Addresses with a vacant status reported from internet Self-Response.

• Field Verification cases.

• Coverage Improvement cases (described below).

• Response Re-collect cases (described below).

After giving the population in the United States and Puerto Rico an opportunity to self-respond to the 2020 Census, the Census Bureau will use the most cost-effective strategy for contacting and counting people to ensure an accurate count. Once the households that did not respond through internet, telephone, or paper are known, administrative records will be used to identify vacant addresses and addresses that do not exist in order to reduce the workload of addresses that NRFU enumerators will visit. Undeliverable-as-Addressed information from the USPS will provide the primary administrative records source for the identification of vacant addresses and addresses that do not exist.

During the NRFU operation, enumerators will visit each housing unit designated for follow-up, determine the occupancy status of the unit on April 1, 2020, and complete an interview using an automated application on a smartphone. Various techniques will be used during NRFU to make the data collection as efficient as possible. The number of allowed attempts to contact is controlled within the automated instrument, and best-time-to-contact modeling is used in the creation of the daily assignments. Every case in the NRFU workload will have a maximum of six unique contact days and 12 proxy attempts. After a third attempt to contact a household does not yield a respondent, a case will become proxy-eligible. A proxy is a neighbor, landlord, real estate agent, or other knowledgeable person who can provide information about the unit and the people who live there. An enumerator should attempt three proxies after each noninterview for a proxy-eligible case. Addresses will also be removed from the workload throughout the course of the NRFU operation as self-responses are received.

Administrative Records

If the initial in-person contact attempt is unsuccessful, the Census Bureau will use administrative records as the household response data when it: (1) Believes that the address is occupied, and (2) has high-quality administrative records. These include records such as from the Internal Revenue Service, the Social Security Administration, and the Centers for Medicare and Medicaid Services, as well as prior censuses and the American Community Survey.

Addresses found to be “administrative records vacant” or “administrative records nonexistent” will be removed from the NRFU workload and will immediately be mailed a final postcard that encourages occupants to self-respond to the 2020 Census. Addresses that are determined to be “administrative records occupied” and for which enumeration is incomplete after one in-person visit attempt will be mailed a final postcard encouraging self-response after seven days.

NRFU Reinterview program

The NRFU Reinterview program will check the quality of the work done by enumerators in NRFU. A sample of approximately 5 percent of NRFU interviews will be selected for verification through NRFU Reinterview. All cases that are sampled for the program and have a valid phone number will initially be subject to a reinterview attempt by a Census Questionnaire Assistance customer service representative to verify that an enumerator conducted the interview and followed procedures. NRFU Reinterview cases that cannot be completed via telephone will be sent to the field for personal visit reinterviews. The customer service representative or enumerator working a NRFU Reinterview case always attempts to contact the respondent from the original interview, which may be a household member, neighbor, or some other proxy. If the original respondent confirms that he/she was contacted and an enumerator conducted the original interview, the customer service representative or enumerator collects roster names and ends the interview. If the respondent was not contacted or does not know if an enumerator conducted the original interview, the customer service representative or enumerator conducts a full interview with the respondent.

Manager Visit

During the early weeks of NRFU, enumerators will conduct interviews with multiunit structure managers to determine the occupancy status of nonresponding units within the multiunit structure. This Manager Visit allows enumerators to identify several units as vacant or delete without having to attempt each unit individually. Enumerators have a maximum of two unique contact days to complete the Manager Visit cases. The Manager Visit Reinterview program will check the quality of work done by enumerators during the Manager Visit and will target enumerators with high numbers of vacant and delete unit statuses. During this Manager Visit Reinterview check, the enumerator will ask to speak to the manager from the original Manager Visit interview. If the respondent confirms that he/she was contacted and an enumerator conducted the original interview, the Manager Visit Reinterview enumerator asks about a subset of the list checked during the Manager Visit. If the respondent was not contacted or does not know if an enumerator conducted the original interview, the enumerator conducts a full interview and review the entire list of nonresponding units within the multiunit structure.

Field Verification

The NRFU universe also includes cases from Non-ID Processing that were not able to be matched to the address frame. As discussed in the Non-ID section, these are Field Verification cases, where the enumerators attempt to locate the address in question and collect its Global Positioning System (GPS) coordinates. A sample of the Field Verification cases is selected for verification through Field Verification Quality Control. Since Field Verification cases only require an enumerator to determine the existence of an address and will not require an interview with a respondent, this Field Verification Quality Control program will consist of an independent check of the production enumerator's work in the field. The Field Verification Quality Control enumerator will conduct the same procedures as the Field Verification enumerator. Field Verification cases, along with their quality control component, have a maximum of one field contact day.

Coverage Improvement

The Coverage Improvement operation improves the enumeration count by resolving categories of erroneous enumerations (people counted in the wrong place or counted more than once) and omissions (people who were missed) identified through collected enumeration data. The Coverage Improvement operation will attempt to resolve these issues identified from both self-response and NRFU questionnaires. The issues identified for the Coverage Improvement operation will be: Where a household enumeration shows a difference between the answer for the number of people within the household and the number of people enumerated, and answers to coverage questions in the initial enumeration that reflect potential coverage errors. Both of these types of cases could result in either erroneous enumerations or omissions. Automation and the internet self-response option will use various edit checks when these inconsistencies arise, which should reduce the prevalence of these types of respondent errors compared to the 2010 Census, which was completed almost entirely on paper questionnaires. All cases that are selected for Coverage Improvement with a valid phone number will be subject to an interview attempt by a Census Questionnaire Assistance customer service representative.

Response re-collect cases are generated as part of the quality assurance efforts for self-response and will be worked within NRFU.

(L) Group Quarters

The 2020 Census Group Quarters operation will enumerate people living or staying in group quarters and provide an opportunity for people experiencing homelessness and receiving service at a service-based location, such as a soup kitchen, to be counted in the census.

The 2020 Census Group Quarters operation consists of the following components:

• In-Office Group Quarters Advance Contact.

• Group Quarters Enumeration.

• Service-Based Enumeration.

• Military Enumeration.

• Maritime Vessel (Shipboard) Enumeration.

The In-Office Group Quarters Advance Contact is an in-office activity conducted in the area census offices in which the group quarters name, address, contact name, and phone number from the address list that results from Address Canvassing will be verified. Preferred dates, times, methods of enumeration, and expected population on Census Day will be collected as well. Special instructions or concerns related to privacy, confidentiality, and security will also be addressed.

The Group Quarters enumeration will cover all 50 states, the District of Columbia, and Puerto Rico. This enumeration at group quarters occurs in approximately the same timeframe as the household enumeration operations. An additional late group quarters enumeration phase allows for the stakeholder identification and enumeration of group quarters that may have been missed during the earlier timeframe. The primary method of conducting in-person enumeration of people residing in group quarters will be by using the Individual Census Questionnaire as the paper data collection instrument. In-person interviewing is planned for all group quarter types that are part of the field enumeration workload.

Group Quarters Enumeration—eResponse Data Transfer

eResponse uses electronic data transfer from group quarter administrators to the Census Bureau. Client-level data from systems maintained by group quarter administrators can be transferred to a standardized Census Bureau system that will accept electronically submitted data in a standardized template. These data will be accepted in lieu of use of the Individual Census Questionnaire if data are deemed to be of sufficiently high quality and completeness.

Service-Based Enumeration

The Service-Based Enumeration is specifically designed to approach people using service facilities because they may be missed during the traditional enumeration of housing units and group quarters. These service locations and outdoor locations include the following:

• Shelters: Shelters with sleeping facilities for people experiencing homelessness; shelters for children who are runaways, neglected, or experiencing homelessness.

• Soup kitchens.

• Regularly-scheduled mobile food vans: Stops where regularly scheduled mobile food vans distribute meals.

• Targeted non-sheltered outdoor locations.

For the 2020 Census, Service-Based Enumeration will be conducted over the three-day period that ends on April 1, 2020, Census Day. Service providers for shelters, soup kitchens, and regularly-scheduled mobile food vans will be given the flexibility for their facility to be enumerated on any one of the three days. Targeted non-sheltered outdoor locations will be enumerated April 1, 2020.

Domestic Violence Shelters

Domestic Violence Shelters are facilities for those seeking safety from domestic violence. As in previous censuses, the enumeration of individuals at Domestic Violence Shelters will be handled by personnel specially trained to protect the safety and security of respondents being enumerated at these locations.

Military Enumeration

Military Enumeration involves enumeration of people living in group quarters (or barracks) on domestic military installations or military vessels. Military installations are fenced, secured areas used for military purposes. An important feature of the military enumeration operation is that it includes both group quarters and housing units. Privatized housing on military installations will be enumerated as part of the housing unit data collection operations rather than through Military Enumeration. A military vessel is defined as a United States Navy or United States Coast Guard vessel assigned to a home port in the United States. In order to support the military's security requirements, military Group Quarters Enumeration will occur by means of electronic data transfer from the Defense Manpower Data Center to the Census Bureau.

(M) Enumeration at Transitory Locations

The 2020 Census Enumeration at Transitory Locations operation enumerates those individuals in occupied units at transitory locations who do not have a usual home elsewhere. This operation will:

• Use automation, where possible, to facilitate data collection and streamline operations such as advance contact. However, data collection will be done using paper.

• Use reengineered staffing and management of the field operation.

• Use in-person enumeration as the primary mode of data collection.

(N) Federally Affiliated Count Overseas

The Federally Affiliated Count Overseas operation obtains counts by home state of United States military and federal civilian employees who are stationed or assigned overseas and their dependents living with them. For the 2020 Census, overseas is defined as anywhere outside the 50 states, the District of Columbia, Puerto Rico, and the Island Areas: American Samoa, Commonwealth of the Northern Mariana Islands, Guam, and the United States Virgin Islands. Counts are submitted from Federal agencies and the Department of Defense (Defense Manpower Data Command) through a Census Bureau secure server and are used to allocate the federally affiliated population living overseas to their home state for the purposes of apportioning seats in the U.S. House of Representatives. If military and federal civilian employees of the U.S. government are deployed overseas while stationed or assigned within the U.S., they are counted at their U.S. residence where they live or sleep most of the time using administrative data provided by Federal agencies and the Department of Defense.

(O) Island Areas Censuses

The Census Bureau will conduct the 2020 Island Areas Censuses through partnerships with local government agencies in American Samoa, Commonwealth of the Northern Mariana Islands, Guam, and the United States Virgin Islands. The Census Bureau will provide the materials and guidance to the local government agencies that are then responsible for recruiting and hiring local staff to conduct the data collection phase through in-person enumeration.

The Island Areas Censuses questionnaire leverages the American Community Survey questionnaire with minor wording changes. These changes include accommodating time reference differences and incorporating the final 2020 Census questions while taking into account the Island Areas local governments' concerns, where possible. All data collection activities will rely on the use of paper questionnaires, paper maps, and paper address registers to record the physical addresses of housing units and group quarters. The MAF does not include addresses for the Island Areas, so the address registers become the address list for the Island Areas Censuses. Once the addresses have been listed, enumerators will visit every living quarter to conduct interviews with household members and follow up as necessary. The Census Offices conduct two quality control operations: (1) Reinterview for a sample of questionnaires, and (2) independent address check. The Census Offices also conduct a clerical review of all completed questionnaires for completeness and data consistency.

After the Island Areas Censuses collects the detailed demographic and housing data, the data will be processed through the Decennial Response Processing System. Data products will include counts of the population and housing units, data profiles, subject tables, ranking tables, and supplemental tables.

II. Method of Collection

Data collection operations result in respondent burden from: (1) Contacts during the address frame-building process, and (2) contacts during enumeration for the 2020 Census.

The frame-building operation in the field that can result in respondent burden is In-Field Address Canvassing. In-Field Address Canvassing is the process of having listers visit specific geographic areas to identify every place where people could live or stay and compare what they see on the ground with the existing census address list and either verify or correct the address and location information. Listers will knock on doors at every structure in the assignment in an attempt to locate living quarters. The Census Bureau expects that listers will make contact with residents (i.e., someone is at home) approximately 25 percent of the time, based on previous address list development field operations.

The second component of respondent burden is the census enumeration operations. This consists of multiple operations that in combination serve the purpose of reaching all residents for the purposes of the enumeration in the census. All attempts by the Census Bureau to make direct contact in TEAs 1 and 6 with individual households by mail for enumeration are referred to as “contact strategies for mailing materials.” Types of contact strategies for mailing materials include invitation letters, postcards, and questionnaires mailed to households.

The “Internet First” approach was developed to encourage respondents to use the internet. Currently, this model includes the mailing of a letter inviting respondents to complete the questionnaire online, two follow-up reminders and, if necessary, a mailed paper questionnaire followed by a final reminder (or two reminders to certain Administrative Records cases). All correspondence will contain a telephone number that respondents may use to complete the questionnaire over the telephone.

The “Internet Choice” contact strategy will be used for the estimated 20 percent of households that have low internet coverage or connectivity or other characteristics that may make it less likely the respondents will complete the census questionnaire online. This strategy includes both an invitation to complete the census online and a paper questionnaire as part of the first mailing.

For those housing unit addresses in TEAs 1 and 6 for which no self-response is received, the NRFU operation will be used to collect the household data. NRFU will use an automated instrument during data collection. Additional follow-up activities to improve and check quality will be included within the Census Questionnaire Assistance call center and NRFU workloads. All cases that are sampled for NRFU reinterview with a valid phone number will initially be subject to a reinterview attempt by a Census Questionnaire Assistance customer service representative. NRFU reinterview cases that cannot be completed via telephone will be sent to the field for personal visit reinterviews.

The NRFU reinterview program will check the quality of the work done by enumerators in NRFU. The NRFU reinterview program involves conducting an independent reinterview for selected cases to verify that an enumerator conducted the interview and followed procedures, as described above. During the early weeks of NRFU, enumerators will conduct interviews with multiunit structure managers to determine the occupancy status of nonresponding units within the multiunit structure, as described above. The NRFU universe also includes cases from Non-ID Processing that were not able to be matched to the address frame. As discussed above, these are Field Verification cases, where the enumerators attempt to locate the address in question and collect its GPS coordinates.

The Coverage Improvement operation resolves categories of erroneous enumerations (people counted in the wrong place or counted more than once) and omissions (people who were missed) identified through collected enumeration data. The Coverage Improvement operation will attempt to resolve these issues from both self-response and NRFU questionnaires.

In summary, a census address list is the basis for the census enumeration. Some of the work to create the address list will occur in In-Field Address Canvassing, which will incur respondent burden. Using a post-Address Canvassing extract of the MAF, census materials will be provided to or for all living quarters according the TEA designated for the area and the operation designated for the living quarters type. Self-response modes for housing units include internet, paper questionnaires, and telephone. Response modes for group quarters include paper questionnaires and electronic file transfers. Special operations will be implemented to collect data at identified transitory units and service-based locations. The various follow-up, QC, and coverage improvement operations will also incur respondent burden. In addition, the Island Areas Censuses and Federally Affiliated Count Overseas operations enumerate the populations covered by those definitions, through the processes described above.

III. Data

OMB Control Number: 0607-XXXX

Form Number(s):

D-LF1

D-LF1(E/S)

D-Q

D-Q(E/S)

D-Q-UL

D-Q-UL(E/S)

D-Q-TL

D-Q-TL(S)

D-CQ-TL

D-CQ-TL(S)

D-Q-FA

D-Q-UE

D-CQ-UE

D-Q-TLUE

D-CQ-TLUE

D-Q-UERA

D-CQ-UERA

D-Q-TLRA

D-CQ-TLRA

D-Q-GERA

D-Q-MV

D-Q-PR(E/S)

D-Q-GEPR(S)

D-Q-ULPR(E/S)

D-Q-TLPR(S)

D-CQ-TLPR(S)

D-Q-AS

D-Q-MI

D-Q-G

D-Q-VI

D-Q-VI(S)

D-CQ-AS

D-CQ-MI

D-CQ-G

D-CQ-VI

D-CQ-VI(S)

D-Q-GE-AS

D-Q-GE-MI

D-Q-GE-G

D-Q-GE-VI

D-Q-GE-VI(S)

Type of Review: Regular submission.

Affected Public: Households/Individuals.

Estimated Number of Respondents: 178,202,534.

Estimated Time per Response: 6.77 minutes.

2020 Census
Operation or category | Estimated number of respondents | Estimated time per response (minutes) | Total burden hours
Address Canvassing | 12,210,150 | 5 | 1,017,513
Address Canvassing Listing QC | 2,442,030 | 5 | 203,503
Geographic Areas Focused on Self-Response (this includes Mailout and Update Leave):
Internet/Telephone/Paper | 80,700,000 | 10 | 13,450,000
Update Leave | 11,900,000 | 5 | 991,667
Update Leave QC | 1,190,000 | 5 | 99,167
Nonresponse Followup | 52,700,000 | 10 | 8,783,333
Nonresponse Followup Reinterview | 2,760,000 | 5 | 230,000
Re-collect | 250,000 | 10 | 41,667
Field Verification | 400,000 | 2 | 13,333
Coverage Improvement | 3,200,000 | 7 | 376,471
Non-ID Processing Phone Followup | 750,000 | 5 | 62,500
Self-Response Areas Subtotal | 148,060,000 |  | 24,048,138
Geographic Area Focused on Update Enumerate:
Update Enumerate Production | 506,000 | 12 | 101,200
Update Enumerate Listing QC | 50,600 | 5 | 4,217
Update Enumerate Reinterview | 25,300 | 10 | 4,217
Update Enumerate Subtotal | 581,900 |  | 109,634
Group Quarters (GQ):
GQ Advance Contact (facility) | 297,000 | 10 | 49,500
GQ Enumeration—eResponse (facility) | 14,300 | 20 | 4,767
GQ Enumeration—person contact | 8,000,000 | 5 | 666,667
Group Quarters QC | 8,500 | 5 | 708
Group Quarters Subtotal | 8,319,800 |  | 721,642
Enumeration at Transitory Locations—Advance Contact | 50,000 | 10 | 8,333
Enumeration at Transitory Locations—Units | 600,000 | 10 | 100,000
Island Areas Censuses—Housing Units | 138,281 | 40 | 92,187
Island Areas Censuses—Group Quarters | 10,291 | 30 | 5,146
Federally Affiliated Count Overseas | 82 | 5 | 7
Totals | 178,202,534 | 6.77 | 26,306,103

Estimated Total Annual Burden Hours: 26,306,103 hours.

Estimated Total Annual Cost to Public: $0 (This is not the cost of respondents' time, but the indirect costs respondents may incur for such things as purchases of specialized software or hardware needed to report, or expenditures for accounting or records maintenance services required specifically by the collection.)

Respondent's Obligation: Mandatory.

Legal Authority: Title 13 U.S.C. Section 141.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-12365 Filed 6-7-18; 8:45 am]

BILLING CODE 3510-07-P